DEPARTMENT OF COMMERCE

International Trade Administration

[A-570-979]

Crystalline Silicon Photovoltaic Cells, Whether or Not Assembled Into Modules, From the People's Republic of China: Preliminary Results and Partial Rescission of Antidumping Duty Administrative Review and Preliminary Determination of No Shipments; 2022-2023

AGENCY: Enforcement and Compliance, International Trade Administration, Department of Commerce.

SUMMARY: The U.S. Department of Commerce (Commerce) preliminarily determines that the companies which Commerce granted a separate rate sold subject merchandise at prices below normal value (NV) during the period of review (POR) December 1, 2022, through November 30, 2023. Commerce also preliminarily determines that one company does not qualify for a separate rate, certain companies had no shipments of subject merchandise during the POR, and that it is appropriate to rescind this review with respect to certain companies. Commerce invites interested parties to comment on these preliminary results of review.

DATES: Applicable April 11, 2025.

FOR FURTHER INFORMATION CONTACT: Howard Smith, AD/CVD Operations, Office IV, Enforcement and Compliance, International Trade Administration, U.S. Department of Commerce, 1401 Constitution Avenue NW, Washington, DC 20230; telephone: (202) 482-5193.

SUPPLEMENTARY INFORMATION:

Background

In response to review requests from multiple parties, in accordance with 19 CFR 351.221(c)(1)(i), on February 8, 2024, Commerce initiated an administrative review of the antidumping duty (AD) order on crystalline silicon photovoltaic cells, whether or not assembled into modules (solar cells), from the People's Republic of China (China) with respect to 60 companies/company groupings covering the POR December 1, 2022, through November 30, 2023.¹ One mandatory respondent, Shenzhen Sungold Solar Co., Ltd. (Sungold), participated in this review by filing responses to Commerce's questionnaire and supplemental questionnaires. Multiple parties commented on surrogate country and surrogate value selection during the course of the review. The current deadline for issuing the preliminary results of this review is April 7, 2025.

¹ See Initiation of Antidumping and Countervailing Duty Administrative Reviews, 89 FR 8641 (February 8, 2024) (Initiation Notice).

For details regarding the above events and other events that occurred subsequent to the initiation of the review, see the Preliminary Decision Memorandum.² The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of topics discussed in the Preliminary Decision Memorandum is in Appendix I.

² See Memorandum, “Decision Memorandum for the Preliminary Results of the 2022-2023 Administrative Review of the Antidumping Duty Order on Crystalline Silicon Photovoltaic Cells, Whether or not Assembled into Modules, from the People's Republic of China,” dated concurrently with, and hereby adopted by, this notice (Preliminary Decision Memorandum).

Scope of the Order ³

³ See Crystalline Silicon Photovoltaic Cells, Whether or Not Assembled Into Modules, from the People's Republic of China: Amended Final Determination of Sales at Less Than Fair Value, and Antidumping Duty Order, 77 FR 73018 (December 7, 2012) (Order).

The products covered by the Order are crystalline silicon photovoltaic cells, and modules, laminates, and panels, consisting of crystalline silicon photovoltaic cells, whether or not partially or fully assembled into other products, including, but not limited to, modules, laminates, panels and building integrated materials. For a complete description of the scope of the Order, see the Preliminary Decision Memorandum.

Partial Rescission of Administrative Review

Pursuant to 19 CFR 351.213(d)(3), it is Commerce's practice to rescind an administrative review of an AD order where it concludes that there were no suspended entries of subject merchandise during the POR.⁴ Commerce notified all interested parties of its intent to rescind the instant review with respect to the companies listed in Appendix II because there were no suspended entries of subject merchandise from those companies during the POR and invited interested parties to comment on Commerce's intention to rescind the review with respect to these companies.⁵ Certain interested parties commented on Commerce's intent to rescind memorandum.⁶ In the absence of any suspended entries of subject merchandise during the POR from the companies listed in Appendix II, we are rescinding this administrative review of those companies, in accordance with 19 CFR 351.213(d)(3).

⁴ See, e.g., Certain Carbon and Alloy Steel Cut-to Length Plate from the Federal Republic of Germany: Recission of Antidumping Administrative Review; 2020-2021, 88 FR 4154 (January 24, 2023).

⁵ See Memorandum, “Notice of Intent to Rescind, In Part,” dated May 14, 2024.

⁶ See Vina Solar Technology Company Limited and Vina Cell Technology Company Limited's Letter, “Comments on Notice of Intent to Rescind Review,” dated May 21, 2024.

Intent To Rescind Administrative Review, in Part

Commerce intends to rescind this review with respect to Red Sun Energy Long An Company Limited. See the Preliminary Decision Memorandum for details.

Preliminary Determination of No Shipments

BYD (Shangluo) Industrial Co., Ltd. (BYD Shangluo), Jinko Solar,⁷ Longi Solar Technology Co. Ltd. (Longi Solar), and Zhejiang Aiko Solar Energy Technology Co., Ltd. (Zhejiang Aiko) claimed that they did not ship subject merchandise during the POR. Information that we obtained from U.S. Customs and Border Protection (CBP) regarding certain potential entries of subject merchandise from Jinko Solar, Longi Solar, and Zhejiang Aiko is consistent with those claims.⁸ Therefore, we preliminarily determine that there were no entries, exports, or sales of the subject merchandise for Jinko Solar, Longi Solar, and Zhejiang Aiko during the POR.

⁷ Jinko Solar refers to the following companies which Commerce has previously treated as a single entity: Jinko Solar Import and Export Co., Ltd.; Jinko Solar Co., Ltd.; JinkoSolar Technology (Haining) Co., Ltd.; Yuhuan Jinko Solar Co., Ltd.; Zhejiang Jinko Solar Co., Ltd.; Jiangsu Jinko Tiansheng Solar Co., Ltd.; JinkoSolar (Chuzhou) Co., Ltd.; JinkoSolar (Yiwu) Co., Ltd.; JinkoSolar (Shangrao) Co., Ltd.

⁸ See Memorandum, “Analysis of No Entries, Exports, or Sales by Certain Companies,” dated concurrently with this notice.

However, subsequent to its no shipments claim, BYD Shangluo provided information that CBP is now suspending certain POR entries of BYD Shangluo's merchandise as subject merchandise.⁹ Based on this information, we preliminarily determine that record evidence contradicts BYD Shangluo's no shipments claim. As a result of our separate rate analysis, we preliminarily determine that BYD Shangluo is eligible for a separate rate. For additional information, see the Preliminary Decision Memorandum.

⁹ See Preliminary Decision Memorandum.

Methodology

Commerce is conducting this administrative review in accordance with section 751(a)(1)(B) of the Tariff Act of 1930, as amended (the Act). Pursuant to section 776(a) and (b) of the Act, Commerce has preliminarily assigned a weighted average dumping margin to Sungold based upon total facts otherwise available with adverse inferences. For a full description of the methodology underlying the preliminary results of this review, see the Preliminary Decision Memorandum.

Separate Rates

In all proceedings involving a non-market economy (NME) country, Commerce maintains a rebuttable presumption that all companies are subject to government control and, thus, should be assessed a single weighted-average dumping margin unless the company can affirmatively demonstrate an absence of government control, both in law (de jure) and in fact (de facto), with respect to its exports (i.e., can affirmatively demonstrate that it is eligible for a separate rate).¹⁰ Commerce has preliminarily determined that information provided by Sungold, BYD H.K. Co., Ltd., BYD (Shangluo) Industrial Co., Ltd., Maodi Solar Technology (Dongguan) Co., Ltd., Trina Solar Energy Development Company Limited, and Trina Solar Science & Technology (Thailand) Ltd. demonstrates that these companies are eligible for a separate rate.¹¹

¹⁰ See Notice of Final Determination of Sales at Less Than Fair Value, and Affirmative Critical Circumstances, In Part: Certain Lined Paper Products from the People's Republic of China, 71 FR 53079, 53082 (September 8, 2006); see also Final Determination of Sales at Less Than Fair Value and Final Partial Affirmative Determination of Critical Circumstances: Diamond Sawblades and Parts Thereof from the People's Republic of China, 71 FR 9303, 29307 (May 22, 2006).

¹¹ See Preliminary Decision Memorandum.

However, Anji DaSol Solar Energy Science & Technology Co., Ltd. (Anji DaSol), which was selected as a mandatory respondent, failed to respond to Commerce's questionnaire. Therefore, we preliminarily determine that Anji DaSol has not demonstrated that it qualifies for a separate rate ¹² and thus it is part of the China-wide entity.

¹² Commerce informed parties in the Initiation Notice that firms that submitted a separate rate application or a separate rate certification that are subsequently selected as mandatory respondents, would not be eligible for separate rate status unless they responded to all parts of the questionnaire that Commerce issued to them as mandatory respondents. See Initiation Notice, 89 FR at 8642.

Dumping Margins for Separate Rate Companies

The statute and Commerce's regulations do not address what dumping margin to apply to respondents that are not selected for individual examination in an administrative review pursuant to section 777A(c)(2) of the Act. Generally, Commerce looks to section 735(c)(5) of the Act, which provides instructions for calculating the all-others rate in an investigation, for guidance when calculating the dumping margin for respondents that are not individually examined in an administrative review. Under section 735(c)(5)(A) of the Act, the all-others rate is normally “equal to the weighted average of the estimated weighted average dumping margins established for exporters and producers individually investigated, excluding any zero and de minimis dumping margins, and any dumping margins determined entirely {on the basis of facts available}.” When the weighted-average dumping margins established for all individually examined respondents are zero, de minimis, or based entirely on facts available, section 735(c)(5)(B) of the Act permits Commerce to “use any reasonable method to establish the estimated all-others rate for exporters and producers not individually investigated, including averaging the estimated weighted average dumping margins determined for the exporters and producers individually investigated. In accordance with the statute and the U.S. Court of Appeals for the Federal Circuit's decision in Primesource,¹³ we preliminarily determined to apply the weight average of the rate assigned to Sungold in this administrative review (i.e., 238.95 percent) to the non-individually examined respondents that are eligible for a separate rate. For additional information, see the Preliminary Decision Memorandum.

¹³ See Primesource Building Products, Inc. et al. v. United States, 111 F.4th 1320 (Fed. Cir. 2024) (Primesource).

China-Wide Entity

Commerce's policy regarding conditional review of the China-wide entity applies to this administrative review.¹⁴ Under this policy, the China-wide entity will not be under review unless a party specifically requests, or Commerce self-initiates, a review of the entity. Because no party requested a review of the China-wide entity, the entity is not under review and the entity's assessment rate (i.e., 238.95 percent ¹⁵) is not subject to change. Because there were no entries of subject merchandise from the companies listed in Appendix III during the POR, none of which had a separate rate during the POR, these companies remain in the China-wide entity.¹⁶

¹⁴ See Antidumping Proceedings: Announcement of Change in Department Practice for Respondent Selection in Antidumping Duty Proceedings and Conditional Review of the Nonmarket Economy Entity in NME Antidumping Duty Proceedings, 78 FR 65963 (November 4, 2013).

¹⁵ The China-wide entity rate was last changed in the first administrative review of this proceeding and has been the applicable rate for the entity in each subsequent review, including the most recently completed review. See Crystalline Silicon Photovoltaic Cells, Whether or Not Assembled Into Modules, from the People's Republic of China: Final Results of Antidumping Duty Administrative Review and Final Determination of No Shipments; 2012- 2013, 80 FR 40998, 41002 (July 14, 2015) (Solar Cells AR 1); see also Crystalline Silicon Photovoltaic Cells, Whether or Not Assembled Into Modules, from the People's Republic of China: Final Results and Final Partial Rescission of Antidumping Duty Administrative Review; and Final Determination of No Shipments; 2021-2022, 89 FR 55562 (July 5, 2024) (Solar Cells AR 10).

¹⁶ See Preliminary Decision Memorandum.

Preliminary Results of Review

We preliminarily determine that the following estimated weighted-average dumping margins exist for the period December 1, 2022, through November 30, 2023:

Exporter | Weighted- average dumping margin (percent)
Shenzhen Sungold Solar Co., Ltd | 238.95
Separate Rate Companies
BYD H.K. Co., Ltd | 238.95
BYD (Shangluo) Industrial Co., Ltd | 238.95
Maodi Solar Technology (Dongguan) Co., Ltd | 238.95
Trina Solar Energy Development Company Limited | 238.95
Trina Solar Science & Technology (Thailand) Ltd | 238.95

Disclosure and Public Comment

Normally, Commerce discloses to parties to the proceeding the calculations performed in connection with a preliminary results of review within five days of any public announcement of the preliminary results or, if there is no public announcement, within five days of the date of publication of the notice of preliminary results of review in the Federal Register, in accordance with 19 CFR 351.224(b). However, because Commerce preliminarily applied a weighted-average dumping margin based on total adverse facts available (AFA) to the individually examined company in this administrative review, in accordance with section 776 of the Act, and the applied AFA is the China-wide entity rate last changed in the first administrative review of this proceeding and has been the applicable rate for the entity in each subsequent review,¹⁷ there are no calculations to disclose.

¹⁷ See Solar Cells AR 1; see also Solar Cells AR 10.

Case briefs or other written comments may be submitted to the Assistant Secretary for Enforcement and Compliance. Pursuant to 19 CFR 351.309(c)(1)(ii), we have modified the deadline for interested parties to submit case briefs to Commerce to no later than 21 days after the date of publication of this notice.¹⁸ Rebuttal briefs, limited to issues raised in the case briefs, may be filed not later than five days after the date for filing case briefs.¹⁹ Parties who submit case briefs or rebuttal briefs in this review must submit: (1) a statement of the issue; and (2) a table of authorities.²⁰ All briefs must be filed electronically using ACCESS. An electronically filed document must be received successfully in its entirety in ACCESS by 5:00 p.m. Eastern Time on the established deadline.

¹⁸ See 19 CFR 351.309.

¹⁹ See 19 CFR 351.309(d); see also Administrative Protective Order, Service, and Other Procedures in Antidumping and Countervailing Duty Proceedings, 88 FR 67069, 67077 (September 29, 2023) (APO and Service Final Rule).

²⁰ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.²¹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²²

²¹ We use the term “issue” here to describe an argument that Commerce would normally address in a comment of the Issues and Decision Memorandum.

²² See APO and Final Service Rule.

Pursuant to 19 CFR 351.310(c), interested parties who wish to request a hearing must submit a written request to the Assistant Secretary for Enforcement and Compliance, filed electronically via ACCESS. Requests should contain: (1) the requesting party's name, address, and telephone number; (2) the number of individuals associated with the requesting party that will attend the hearing and whether any of those individuals is a foreign national; and (3) a list of the issues the party intends to discuss at the hearing. Issues raised in the hearing will be limited to those raised in the respective case briefs. An electronically filed hearing request must be received successfully in its entirety by Commerce's electronic records system, ACCESS, by 5 p.m. Eastern Time within 30 days after the date of publication of this notice in the Federal Register.

Assessment Rates

Upon issuance of the final results of this review, Commerce will determine, and CBP shall assess, antidumping duties on all appropriate entries covered by this review.²³ Commerce intends to issue assessment instructions to CBP no earlier than 35 days after the date of publication of the notice of the final results of this review in the Federal Register. If a timely summons is filed at the U.S. Court of International Trade, the assessment instructions will direct CBP not to liquidate relevant entries until the time for parties to file a request for a statutory injunction has expired (i.e., within 90 days of publication).

²³ See Antidumping Proceedings: Calculation of the Weighted Average Dumping Margin and Assessment Rate in Certain Antidumping Proceedings: Final Modification, 77 FR 8101 (February 14, 2012) (Final Modification).

If Commerce continues to base Sungold's weighted-average dumping margin upon total facts otherwise available, with adverse inferences, in the final results of this review, then Commerce will instruct CBP to assess antidumping duties at a rate equal to 238.95 percent to all the entries of subject merchandise produced and/or exported by Sungold.

However, if Sungold's final weighted-average dumping margin is not based on total facts otherwise available, with adverse inferences, Commerce intends to calculate importer/customer-specific assessment rates ²⁴ by dividing the total amount of dumping for reviewed sales to the importer/customer by the total quantity of those sales. Commerce will calculate an estimated ad valorem importer/customer-specific assessment rate to determine whether the per-unit assessment rate is de minimis; however, it will instruct CBP to apply the per-unit assessment rate.²⁵

²⁴ See 19 CFR 351.212(b)(1).

²⁵ See Final Modification, 77 FR at 8103.

Commerce will base the assessment rate of any company not selected for individual examination that qualifies for a separate rate on the weighted-average dumping margin that it calculates for Sungold in the final results of this review.²⁶

²⁶ See Non-Market Economy Antidumping Proceedings: Assessment of Antidumping Duties, 76 FR 65694, 65694-95 (October 24, 2011).

Pursuant to a refinement of its practice, Commerce will instruct CBP to liquidate entries of Sungold's subject merchandise for which sales were not reported in the U.S. sales database at the dumping margin assigned to the China-wide entity.²⁷

²⁷ See Solar Cells from China AR1, 80 FR at 41002.

We intend to instruct CBP to liquidate entries of subject merchandise during the POR that were recorded under the company-specific case numbers of Jinko Solar, Longi Solar, and Zhejiang Aiko at the China-wide rate.

For the companies listed in Appendix II for which Commerce is rescinding this review, Commerce will instruct CBP to assess antidumping duties on all appropriate entries at a rate equal to the cash deposit of estimated antidumping duties required at the time of entry, or withdrawal from warehouse, for consumption, during the period December 1, 2022, through November 30, 2023. Commerce intends to issue assessment instructions to CBP regarding the companies listed in Appendix II no earlier than 35 days after the date of publication of this notice in the Federal Register.

Cash Deposit Requirements

The following cash deposit requirements will be in effect for all shipments of subject merchandise entered, or withdrawn from warehouse, for consumption on, or after, the date of publication of the notice of the final results of this administrative review in the Federal Register, as provided for by section 751(a)(2)(C) of the Act: (1) for the exporters listed in the table in the “Preliminary Results of Review” section of this notice above, the cash deposit rate will be equal to the weighted-average dumping margin established in the final results of this review for the exporter (except, if the dumping margin is de minimis (i.e., less than 0.5 percent), then the cash deposit rate will be zero for that exporter); (2) for previously investigated or reviewed Chinese and non-Chinese exporters that are not listed in the rate table in the final results of review that have separate rates, the cash deposit rate will continue to be the exporter's existing cash deposit rate; (3) for all China exporters of subject merchandise that do not have a separate rate, the cash deposit rate will be equal to the weighted-average dumping margin assigned to the China-wide entity, which is 238.95 percent, and (4) for all non-China exporters of subject merchandise that do not have a separate rate, the cash deposit rate will be equal to the weighted-average dumping margin applicable to the China exporter(s) that supplied that non-China exporter. These cash deposit requirements, when imposed, shall remain in effect until further notice.

Final Results of Review

Commerce intends to issue the final results of this administrative review, including the results of its analysis of all issues raised in any written briefs, not later than 120 days after the publication of these preliminary results of review in the Federal Register, unless otherwise extended.²⁸

²⁸ See section 751(a)(3)(A) of the Act.

Notification to Importers

This notice serves as a preliminary reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties has occurred, and the subsequent assessment of double antidumping duties, and/or an increase in the amount of antidumping duties by the amount of the countervailing duties.

Notification to Interested Parties

We are issuing and publishing these preliminary results of review in accordance with sections 751(a)(1) and 777(i)(1) of the Act, and 19 CFR 351.213 and 351.221(b)(4).

Dated: April 7, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Partial Rescission of Administrative Review

V. Intent to Rescind Administrative Review in Part

VI. Preliminary No-Shipments Determination

VII. Application of Facts Available and Use of Adverse Inferences

VIII. Discussion of the Methodology

IX. Recommendation

Appendix II

Companies for Which Commerce Is Rescinding the Review

1. Canadian Solar International Limited; Canadian Solar Manufacturing (Changshu) Inc.; Canadian Solar Manufacturing (Luoyang) Inc.; CSI Cells Co., Ltd.; CSI Solar Co., Ltd.; and CSI Solar Manufacturing (Fu Ning) Co., Ltd.

2. Chint Solar (Hong Kong) Company Limited; Chint Solar (Jiuquan) Co., Ltd.; Chint Solar (Zhejiang) Co., Ltd.; and Chint New Energy Technology (Haining) Co., Ltd.

3. JingAo Solar Co., Ltd.

4. Risen Energy Co. Ltd.; Risen Energy (Changzhou) Co., Ltd.; Risen (Wuhai) New Energy Co., Ltd.; Zhejiang Twinsel Electronic Technology Co., Ltd.; Risen (Luoyang) New Energy Co., Ltd.; Jiujiang Shengchao Xinye Technology Co., Ltd.; Jiujiang Shengzhao Xinye Trade Co., Ltd.; Ruichang Branch, Risen Energy (HongKong) Co., Ltd.; and Risen Energy (YIWU) Co., Ltd.

5. Shanghai BYD Co., Ltd.

6. Shanghai JA Solar Technology Co., Ltd.

7. Shenzhen Glory Industries Co., Ltd.

8. Shenzhen Topray Solar Co., Ltd.

9. Shenzhen Yingli New Energy Resources Co., Ltd.; Baoding Jiasheng Photovoltaic Technology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company.

10. Trina Solar (Singapore) Science and Technology Pte. Ltd.

11. Trina Solar Co., Ltd.; Trina Solar (Changzhou) Science and Technology Co., Ltd.; Yancheng Trina Guoneng Photovoltaic Technology Co., Ltd.; Changzhou Trina Solar Yabang Energy Co., Ltd.; Turpan Trina Solar Energy Co., Ltd.; Hubei Trina Solar Energy Co., Ltd.; Trina Solar (Hefei) Science and Technology Co., Ltd.; Changzhou Trina Hezhong Photoelectric Co., Ltd.

12. Wuxi Tianran Photovoltaic Co., Ltd.

13. Xiamen Yiyusheng Solar Co., Ltd.

Appendix III

Companies That Remain in the China-Wide Entity

1. Boviet Solar Technology Co., Ltd.

2. Canadian Solar Manufacturing, Inc.

3. Changzhou Trina PV Ribbon Materials Co., Ltd.

4. Chint Energy (Haining) Co., Ltd.

5. CSI Modules (DaFeng) Co., Ltd.

6. CSI Solar Co., Ltd. (f.k.a. CSI Solar Power (China) Inc.)

7. CSI Solar Manufacturing (Fu Ning) Co., Ltd. (f.k.a. CSI-GCL Solar Manufacturing (YanCheng) Co., Ltd.)

8. CSI Solar Power Group Co., Ltd. (f.k.a. CSI Solar Power (China) Inc.)

9. De-Tech Trading Limited HK

10. Hengdian Group DMEGC Magnetics Co. Ltd.

11. Hongkong Hello Tech Energy Co., Ltd.

12. Jiawei Solarchina (Shenzhen) Co., Ltd.

13. Jiawei Solarchina Co., Ltd.

14. Jinko Solar (Malaysia) Sdn. Bhd.

15. Jinko Solar International Limited

16. Jinko Solar Technology Sdn. Bhd.

17. Jinkosolar Middle East DMCC

18. Lightway Green New Energy Co., Ltd.

19. Longi (HK) Trading Ltd.

20. Luoyang Suntech Power Co., Ltd.

21. New East Solar Energy Cambodia Co., Ltd.

22. Ningbo ETDZ Holdings, Ltd.

23. Ningbo Qixin Solar Electrical Appliance Co., Ltd.

24. Renesola Jiangsu Ltd.

25. ReneSola Zhejiang Ltd.

26. Risen Solar Technology Sdn. Bhd

27. Shanghai Nimble Co., Ltd.

28. Sumec Hardware & Tools Co., Ltd.

29. Suntech Power Co., Ltd.

30. Taizhou BD Trade Co., Ltd.

31. tenKsolar (Shanghai) Co., Ltd.

32. Trina Solar Energy Development PTE Ltd.

33. Vina Cell Technology Company Limited

34. Vina Solar Technology Company Limited

35. Wuxi Suntech Power Co., Ltd.

36. Yingli Green Energy International Trading Company Limited

[FR Doc. 2025-06233 Filed 4-10-25; 8:45 am]

BILLING CODE 3510-DS-P